DEPARTMENT OF THE INTERIOR

Minerals Management Service

Outer Continental Shelf Oil and Gas and Sulphur Operations

AGENCY: Minerals Management Service (MMS), Interior.

ACTION: Notice.

SUMMARY: MMS has scheduled its annual Industry Awards Program and Luncheon to honor outstanding companies for their exemplary safety and pollution prevention records during the year 2000.

DATES: April 4, 2001.

FOR FURTHER INFORMATION CONTACT: Debbie O'Brien, 703-787-1579, deborah.o'brien@mms.gov; or Marcia Oliver, 703-787-1043, marcia.oliver@mms.gov.

SUPPLEMENTARY INFORMATION: The MMS will host its annual Industry Awards Program and Luncheon on Wednesday, April 4, 2001. It will be held at the Westin Galleria Hotel in Houston, Texas. This is the 19th year that MMS has honored outstanding companies for their exemplary safety and pollution prevention records, and the third year for our industry awards program. To recognize performance during the year 2000, the following awards will be presented:

• Corporate Leadership Award (CORLA)—Recognizes corporation employees for performing an act or service that enhances MMS's ability to meet Offshore Minerals Management or Minerals Revenue Management (MRM) mission objectives. An MMS CORLA recipient must be judged by MMS to have performed an exemplary act or service that helps MMS meet its mission objectives.

• Corporate Citizen Award (CORCIT)—Recognizes OCS lessees that are outstanding in the areas of offshore operating performance and fiscal responsibility. An MMS CORCIT recipient must be judged by MMS to be among the safest and most committed to timely and accurate financial reporting. Contributions to overall industry performance are considered.

• Secretary of the Interior's Minerals Revenues Stewardship Award—Recognizes companies committed to timely and accurately filing mineral lease revenue and production reports with the MRM Program.

• Safety Award for Excellence (SAFE)—Recognizes exemplary performance by oil and gas lessees, operators, and contractors. It also highlights to the public that companies conduct offshore oil and gas activities safely and in a pollution-free manner, even though such activities are complex and carry a significant element of risk. The SAFE Award Categories are as follows:

• High Activity Operator

• Moderate Activity Operator

• Contractor—Drilling

• Contractor—Production

Please visit our web site at http://www.mms.gov/awards. The site has information on registration, luncheon, and hotel reservations. Or, you may contact Ms. O'Brien or Ms. Oliver for further information.

Dated: February 26, 2001.
E.P. Danenberger,
Chief, Engineering and Operations Division.

[FR Doc. 01-4983 Filed 2-28-01; 8:45 am]

BILLING CODE 4310-MR-P